LEGAL SERVICES CORPORATION

Sunshine Act Meetings

TIME AND DATE: The Finance and the Governance and Performance Review Committees of the Legal Services Corporation Board of Directors will meet virtually on July 8 and 9, 2025, respectively. The Finance Committee meeting will begin on July 8 at 1:30 p.m. Eastern Time and will continue until the conclusion of the Committee's agenda. On July 9, the Governance and Performance Review Committee meeting will begin at 2:00 p.m. Eastern Time and will continue until the conclusion of the Committee's agenda.

PLACE: Public notice of virtual meeting.

LSC will conduct the July 8 and July 9, 2025, meetings via videoconference. Unless otherwise noted herein, the meetings will be open to public observation via LSC's YouTube channel: https://www.youtube.com/@LegalServicesCorp/streams.

STATUS: Open.

MATTERS TO BE CONSIDERED:

Tuesday, July 8, 2025—Finance Committee Meeting

1. Approval of Meeting Agenda

2. Continue Discussion Regarding LSC's Fiscal Year 2027 Budget Appropriation Request

3. Consider and Act on Recommendation for Full Board Approval: Resolution #2025-XXX: Adopting LSC's Appropriation Request for Fiscal Year 2027

4. Consider and Act on Other Business

5. Consider and Act on Adjournment of Meeting

Wednesday, July 9, 2025—Governance and Performance Review Committee Meeting

1. Approval of Agenda

2. Approval of Minutes of the Committee's Meeting on March 24, 2025

3. Approval of Minutes of the Committee's Closed Session Meeting on March 24, 2025

4. Report on U.S. Department of Justice's Access to Justice Office and White House Legal Aid Interagency Roundtable (LAIR)

5. Consider and Act on Other Business

6. Consider and Act on Motion to Adjourn the Committee Meeting

CONTACT PERSON FOR MORE INFORMATION: Jessica Wechter, Special Assistant to the President, at (202) 295-1500. Questions may also be sent by electronic mail to the Office of the Corporate Secretary at updates@lsc.gov.

Non-Confidential Meeting Materials: Non-confidential meeting materials will be made available in electronic format at least 24 hours in advance of the meeting on the LSC website, at https://www.lsc.gov/about-lsc/board-meeting-materials.

(Authority: 5 U.S.C. 552b.)

Dated: June 26, 2025.
Stefanie Davis,
Deputy General Counsel, Legal Services Corporation.

[FR Doc. 2025-12229 Filed 6-27-25; 11:15 am]

BILLING CODE 7050-01-P